DEPARTMENT OF DEFENSE

Office of the Secretary

[Transmittal No. 23-0Q]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0Q.

Dated: November 1, 2024.
Stephanie J. Bost,
Alternate OSD Federal Register Liaison Officer, Department of Defense.

BILLING CODE 6001-FR-P

BILLING CODE 6001-FR-C

Transmittal No. 23-0Q

REPORT OF ENHANCEMENT OR UPGRADE OF SENSITIVITY OF TECHNOLOGY OR CAPABILITY (SEC. 36(B)(5)(C), AECA)

(i) Purchaser: Government of Lithuania

(ii) Sec. 36(b)(1), AECA Transmittal No.: 22-02

Date: December 21, 2021

Military Department: Army

Funding Source: National Funds and Foreign Military Financing (FMF)

(iii) Description: On December 21, 2021, Congress was notified by Congressional certification transmittal number 22-02, of the possible sale, under Section 36(b)(1) of the Arms Export Control Act, of three hundred forty-one (341) Javelin FGM-148F missiles and thirty (30) Javelin Command Launch Units (CLUs). Also included were battery chargers; Enhanced Producibility Basic Skills Trainer (EPBST); training; publications; support equipment; United States Government technical assistance; and other related elements of logistics and program support. The estimated total cost was $125 million. Major Defense Equipment (MDE) constituted $109.3 million of this total.

This transmittal notifies the inclusion of an additional one thousand six hundred ninety-two (1,692) Javelin FGM-148F Missiles (includes thirty-two (32) Fly-to-Buy Missiles); and three hundred fifty (350) Javelin Light Weight Command Launch Units (LWCLUs) (MDE). Also included is technical assistance in support of Javelin program management, logistics, oversight, and successful delivery of the weapon system. The estimated value of the new MDE items is $436.1 million, and the estimated value of the new non-MDE items is $10 million. The revised estimated total MDE value is $545.4 million, and the revised total case value is $571.1 million.

(iv) Significance: The proposed sale will support Lithuania's ability to build its long-term defense capacity to defend its sovereignty and territorial integrity to meet its national defense requirements. It is vital to the U.S. national interest to assist Lithuania in developing and maintaining a strong and ready self-defense capability.

(v) Justification: This proposed sale will support the foreign policy and national security of the United States by helping to improve the security of a North Atlantic Treaty Organization Ally that is an important force for ensuring peace and stability in Europe.

(vi) Sensitivity of Technology:

The Javelin Weapon System is comprised of two major tactical components, which are a reusable Light Weight Command Launch Unit (LWCLU) and a round contained in a disposable launch tube assembly. The Light Weight Command Launch Unit has been identified as Major Defense Equipment (MDE). The LWCLU incorporates an integrated day-night sight that provides a target engagement capability in adverse weather and countermeasure environments. The LWCLU may also be used in a stand-alone mode for battlefield surveillance and target detection. The LWCLU's thermal sight is a 3rd generation Forward Looking Infrared (FLIR) sensor. To facilitate initial loading and subsequent updating of software, all on-board missile software is uploaded via the LWCLU after mating and prior to launch.

The Sensitivity of Technology Statement contained in the original notification applies to other items reported here.

The highest level of classification of defense articles, components, and services included in this potential sale is SECRET.

(vii) Date Report Delivered to Congress: September 20, 2023

[FR Doc. 2024-25824 Filed 11-5-24; 8:45 am]

BILLING CODE 6001-FR-P